DEPARTMENT OF THE INTERIOR

National Park Service

[NPS-WASO-NAGPRA-NPS0031804; PPWOCRADN0-PCU00RP14.R50000]

Notice of Inventory Completion: Federal Bureau of Investigation, Indianapolis Field Office, Indianapolis, IN

AGENCY: National Park Service, Interior.

ACTION: Notice.

SUMMARY: The Federal Bureau of Investigation (FBI) has completed an inventory of human remains in consultation with the appropriate Indian Tribes or Native Hawaiian organizations, and has determined that there is a cultural affiliation between the human remains and any present-day Indian tribes or Native Hawaiian organizations. Lineal descendants or representatives of any Indian Tribe or Native Hawaiian organization not identified in this notice that wish to request transfer of control of these human remains should submit a written request to the Federal Bureau of Investigation. If no additional requestors come forward, transfer of control of the human remains to the Indian Tribes or Native Hawaiian organizations stated in this notice may proceed.

DATES: Lineal descendants or representatives of any Indian Tribe or Native Hawaiian organization not identified in this notice that wish to request transfer of control of these human remains should submit a written request with information in support of the request to the Federal Bureau of Investigation at the address in this notice by May 24, 2021.

ADDRESSES: Federal Bureau of Investigation, FBI Headquarters, Attn: Supervisory Special Agent Timothy Carpenter, Art Theft Program, 935 Pennsylvania Avenue NW, Washington, DC 20535, telephone (954) 931-3670, email artifacts@ic.fbi.gov.

SUPPLEMENTARY INFORMATION: Notice is here given in accordance with the Native American Graves Protection and Repatriation Act (NAGPRA), 25 U.S.C. 3003, of the completion of an inventory of human remains under the control of the Federal Bureau of Investigation, Indianapolis Field Office, Indianapolis, IN. The human remains were removed from various locations throughout New Mexico and Arizona.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by FBI professional staff in consultation with representatives of Fort Sill Apache Tribe of Oklahoma; Gila River Indian Community of the Gila River Indian Reservation, Arizona; Hopi Tribe of Arizona; Mescalero Apache Tribe of the Mescalero Reservation, New Mexico; Pueblo of Acoma, New Mexico; Pueblo of Jemez, New Mexico; Pueblo of Laguna, New Mexico; Pueblo of Picuris, New Mexico; and the Salt River Pima-Maricopa Indian Community of the Salt River Reservation, Arizona (hereafter referred to as “The Tribes”).

History and Description of the Remains

At various unknown dates, human remains representing, at minimum, six individuals were removed from undisclosed locations throughout New Mexico and Arizona. The human remains were transported to Indiana, where they remained as part of a private collection of Native American antiquities and cultural heritage. In April 2014, the human remains were seized by the FBI as part of a criminal investigation.

Although these human remains were heavily co-mingled at the time of recovery, a preponderance of evidence supports the findings that these human remains are Native American from the Southwest region of New Mexico and/or Arizona. Careful consideration of the evidence included: Cultural, geographical, biological, archeological, anthropological, and expert opinion from the region. No known individuals were identified. No associated funerary objects were present.

The known region and non-invasive/non-destructive skeletal analysis, indicate that the individuals are affiliated with Native American people from the Southwest. The particular composition of the soil matrix present on the human remains, in addition to other evidence, indicates that the individuals were taken from various undisclosed locations in the Southwest.

Determinations Made by the Federal Bureau of Investigation

Officials of the Federal Bureau of Investigation have determined that:

• Pursuant to 25 U.S.C. 3001(9), the human remains described in this notice represent the physical remains of six individuals of Native American/Southwest ancestry.

• Pursuant to 25 U.S.C. 3001(2), there is a relationship of shared group identity that can be reasonably traced between the Native American human remains and The Tribes.

Additional Requestors and Disposition

Lineal descendants or representatives of any Indian Tribe or Native Hawaiian organization not identified in this notice that wish to request transfer of control of these human remains should submit a written request with information in support of the request to the Federal Bureau of Investigation, FBI Headquarters, Attn: Supervisory Special Agent Timothy Carpenter, Art Theft Program, 935 Pennsylvania Avenue NW, Washington, DC 20535, telephone (954) 931-3670, email artifacts@ic.fbi.gov, by May 24, 2021. After that date, if no additional requestors have come forward, transfer of control of the human remains to The Tribes may proceed.

The Federal Bureau of Investigation is responsible for notifying The Tribes that this notice has been published.

Dated: April 16, 2021.
Melanie O'Brien,
Manager, National NAGPRA Program.

[FR Doc. 2021-08395 Filed 4-21-21; 8:45 am]

BILLING CODE 4312-52-P